ENVIRONMENTAL PROTECTION AGENCY

[FRL-9221-8 ]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1717.07; NESHAP for Off-Site Waste and Recovery Operations; 40 CFR part 63, subparts A and DD; was approved on 10/01/2010; OMB Number 2060-0313; expires on 10/31/2013; Approved without change.

EPA ICR Number 1781.05; NESHAP for Pharmaceutical Production; 40 CFR part 63, subparts A and GGG; was approved on 10/01/2010; OMB Number 2060-0358; expires on 10/31/2013; Approved without change.

EPA ICR Number 1869.06; NESHAP for the Manufacture of Amino/Phenolic Resins; 40 CFR part 63, subparts A and OOO; was approved on 10/01/2010; OMB Number 2060-0434; expires on 10/31/2013; Approved without change.

EPA ICR Number 2079.04; NESHAP for Metal Can Manufacturing Surface Coating; 40 CFR part 63, subparts A and KKKK; was approved on 10/01/2010; OMB Number 2060-0541; expires on 10/31/2013; Approved without change.

EPA ICR Number 1765.06; National Volatile Organic Compound Emission Standards for Automobile Refinish Coatings (Renewal); 40 CFR part 59, subpart B; was approved on 10/01/2010; OMB Number 2060-0353; expires on 10/31/2013; Approved without change.

EPA ICR Number 1611.07; NESHAP for Chromium Emissions from Hard and Decorative Chromium Electroplating and Chromium Anodizing Tanks; 40 CFR part 63, subparts A and N; was approved on 10/01/2010; OMB Number 2060-0327; expires on 10/31/2013; Approved without change.

EPA ICR Number 1966.04; NESHAP for Boat Manufacturing; 40 CFR part 63, subparts A and VVVV; was approved on 10/01/2010; OMB Number 2060-0546; expires on 10/31/2013; Approved without change.

EPA ICR Number 1604.09; NSPS for Secondary Brass/Bronze Production, Primary Copper/Zinc/Lead Smelters, Primary Aluminum Reduction Plants and Ferroalloy Production Facilities; 40 CFR part 60, subparts A, M, P, Q, R, S, and Z, was approved on 10/01/2010; OMB Number 2060-0110; expires on 10/31/2013; Approved without change.

EPA ICR Number 1664.07; National Oil and Hazardous Substances Pollution Contingency Plans (Renewal); 40 CFR 300.900; was approved on 10/01/2010; OMB Number 2050-0141; expires on 10/31/2013; Approved without change.

EPA ICR Number 1984.04; NESHAP for Plywood and Composite Wood Products; 40 CFR part 63, subparts A and DDDD; was approved on 10/01/2010; OMB Number 2060-0552; expires on 10/31/2013; Approved without change.

EPA ICR Number 2387.01; Certification and In-Use Testing of Motor Vehicles: Revisions to Reduce Emissions of Greenhouse Gases (Final Rule); 40 CFR 86.1845 to 86.1848; 40 CFR parts 85 and 86; was approved on 10/04/2010; OMB Number 2060-0644; expires on 10/31/2013; Approved without change.

EPA ICR Number 1801.09; NESHAP for the Portland Cement Manufacturing Industry; 40 CFR part 63, subparts A and LLL; was approved on 10/04/2010; OMB Number 2060-0416; expires on 10/31/2013; Approved without change.

EPA ICR Number 2307.02; NSPS for Portland Cement Plants; 40 CFR part 60, subparts A and F; was approved on 10/04/2010; OMB Number 2060-0614; expires on 10/31/2013; Approved without change.

EPA ICR Number 1361.15; Withdrawing the Comparable Fuels Exclusion under RCRA (Final Rule); 40 CFR 261.38; was approved on 10/04/2010; OMB Number 2050-0073; expires on 10/31/2013; Approved without change.

EPA ICR Number 1774.05; Mobile Air Conditioner Retrofitting Program (Renewal); 40 CFR part 82, subpart G; was approved on 10/13/2010; OMB Number 2060-0350; expires on 10/31/2013; Approved without change.

EPA ICR Number 0282.15; Engine Emission Defect Information Reports and Voluntary Emission Recall Reports (Renewal); 40 CFR parts 85, 89, 90, 91, 92, 94, 1048, 1068 and 1051; was approved on 10/19/2010; OMB Number 2060-0048; expires on 10/31/2013; Approved without change.

EPA ICR Number 2363.01; Exhaust Emissions of Light-duty Vehicles in Metropolitan Detroit (New Collection); was approved on 10/19/2010; OMB Number 2060-0645; expires on 10/31/2013; Approved without change.

Comment Filed

EPA ICR Number 2381.01; Proposed ICR Amendment for Rulemaking entitled “Lead; Clearance and Clearance Testing Requirements for the Renovation, Repair, and Painting Program; Proposed Rule”; in 40 CFR part 745; OMB filed comment on 10/04/2010.

EPA ICR Number 2398.01; Regulation of Fuels and Fuel Additives: 2011 Renewable Fuel Standards—Petition for International Aggregate Compliance Approach; in 40 CFR 80.1457; OMB filed comment on 10/18/2010.

EPA ICR Number 0783.55; Motor Vehicle Emissions: Revisions to Certification of Alternative Fuels Conversions; in 40 CFR 85.1901-85.1908; 40 CFR parts 85, 86 and 600; 40 CFR 86.412 and 86.1845; OMB filed comment on 10/19/2010.

Short Term Extensions of Expiration Date

EPA ICR Number 2147.05; Pesticide Registration Fee Waivers; OMB Number 2070-0167; expires on 01/31/2011; a short term extension was approved on 10/18/2010.

EPA ICR Number 1214.09; Pesticide Product Registration Maintenance Fee; OMB Number 2070-0100; expires on 03/31/2011; a short term extension was approved on 10/18/2010.

Dated: November 1, 2010.
John Moses,
Director, Collections Strategies Division.

[FR Doc. 2010-28016 Filed 11-4-10; 8:45 am]

BILLING CODE 6560-50-P